DEPARTMENT OF ENERGY

Energy Information Administration

Agency Information Collection Extension

AGENCY: U.S. Energy Information Administration (EIA), Department of Energy.

ACTION: Agency information collection activities: Information collection extension; notice and request for comments.

SUMMARY: The EIA, pursuant to the Paperwork Reduction Act of 1995, intends to extend with changes for three years with the Office of Management and Budget (OMB), the surveys in the Natural Gas Data Collection Program Package under OMB Control No. 1905-0175. This program provides information on the supply and disposition of natural gas within the United States.

The surveys covered by this information collection request include:

Form EIA-176, Annual Report of Natural and Supplemental Gas Supply and Disposition

EIA-191, Monthly Underground Gas Storage Report

EIA-757, Natural Gas Processing Plant Survey

EIA-857, Monthly Report of Natural Gas Purchases and Deliveries to Consumers

EIA-910, Monthly Natural Gas Marketer Survey

EIA-912, Weekly Underground Natural Gas Storage Report

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before June 30, 2017. If you anticipate difficulty in submitting comments within that period, contact the person listed in ADDRESSES as soon as possible.

ADDRESSES: Send written comments to Michael Kopalek, Natural Gas Downstream Team, Office of Petroleum and Biofuel Statistics, U.S. Energy Information Administration. To ensure receipt of the comments by the due date, submission by email (Michael.Kopalek@eia.gov) is recommended. The mailing address is Michael Kopalek, U.S. Energy Information Administration, U.S. Department of Energy, 1000 Independence Ave. SW., EI-25, Washington, DC 20585. Telephone 202-586-4001.

FOR FURTHER INFORMATION CONTACT: Requests for additional information or copies of the any forms and instructions should be directed to Mr. Kopalek at the address listed above. Also, the draft forms and instructions are available on the EIA Web site at http://www.eia.gov/survey/notice/ngdownstreamforms2015.cfm.

SUPPLEMENTARY INFORMATION: This information collection request contains:

(1) OMB Control Number 1902-0175;

(2) Information Collection Request Title: Natural Gas Data Collection Program;

(3) Type of Request: Renewal, with changes;

(4) Purpose: The Federal Energy Administration Act of 1974 (Pub. L. 93-275, 15 U.S.C. 761 et seq.) and the DOE Organization Act (Pub. L. 95-91, 42 U.S.C. 7101 et seq.) require EIA to carry out a centralized, comprehensive, and unified energy information program. This program collects, evaluates, assembles, analyzes, and disseminates information on energy resource reserves, production, demand, technology, and related economic statistics. This information is used to assess the adequacy of energy resources to meet both near- and long-term domestic demands.

EIA, as part of its effort to comply with the Paperwork Reduction Act of 1995 (Pub. L. 104-13, 44 U.S.C. 3501 et seq.), provides the general public and other Federal agencies with opportunities to comment on the collection of energy information conducted by or in conjunction with EIA. Comments help EIA prepare information collection requests that maximize the utility of the information collected and assess the impact of collection requirements on the public.

The natural gas surveys included in the Natural Gas Data Collection Program Package collect information on natural gas underground storage, supply, processing, transmission, distribution, consumption by sector, and consumer prices. This information is used to support public policy analyses of the natural gas industry and estimates generated from data collected on these surveys. The statistics generated from these surveys are posted to the EIA Web site (http://www.eia.gov) and in various EIA products, including the Weekly Natural Gas Storage Report (WNGSR), Natural Gas Monthly (NGM), Natural Gas Annual (NGA), Monthly Energy Review (MER), Short-Term Energy Outlook (STEO), Annual Energy Outlook (AEO), and Annual Energy Review (AER). Respondents to EIA natural gas surveys include underground storage operators, processors, transporters, marketers, and distributors. Each form included as part of this package is discussed in detail below.

Please refer to the proposed forms and instructions for more information about the purpose, who must report, when to report, where to submit, the elements to be reported, detailed instructions, provisions for confidentiality, and uses (including possible nonstatistical uses) of the information. For instructions on obtaining materials, see the FOR FURTHER INFORMATION CONTACT section.

EIA requests a three-year extension of collection authority for each of the above-referenced surveys with proposed changes to Forms EIA-176, EIA-910, EIA-912 and minor changes to improve clarity in the instructions to Forms EIA-191, 757, and 857.

(4a) Proposed Changes to Information Collection:

Form EIA-176, Annual Report of Natural and Supplemental Gas Supply and Disposition

Form EIA-176 collects data on natural, synthetic, and other supplemental gas supplies, disposition, and certain revenues by state. The proposed changes include:

a. Add a question in Part 3(B) asking respondents if they have an alternative-fueled vehicle fleet, and if so, what kind and how many vehicles comprise the fleet. This information will improve survey frame coverage and data accuracy reported on Form EIA-886, Annual Survey of Alternative Fueled Vehicles;

b. Add a new section Part 3(E) to add a question for local distribution companies to provide all five-digit zip codes in their distribution territory where they deliver natural gas for end-use consumption. This information enables EIA to estimate the approximate service territory for a local distribution company. This information will allow EIA analysts and data customers to understand service territories associated with natural gas distributors. EIA has received inquiries for this information in the past;

c. Add a question in Part 3 (F) asking respondents for the names and zip codes of any aboveground liquefied (LNG) natural gas storage facilities that are owned by, operated by, or provide services to a survey respondent. EIA proposes to collect this information to facilitate collection of LNG data by providing a list of operators and their locations;

d. Discontinue collecting costs associated with purchase gas received within the service area. In the past, EIA spent substantial resources to validate this information. EIA has the capability to estimate values for this activity using monthly data. EIA proposes to delete this data element to reduce respondent reporting burden; and

e. Move Part 6 Line 12.4 (from the drop down menu selection) sub-item 9096, “Other Natural gas consumed in your operations: Vaporization/LNG Fuel,” to make it a standalone line item as new Line 12.4, called “Vaporization/Liquefaction/LNG Fuel.” The collection of “Other Natural Gas” consumed in operations that was previously listed on Line 12.4 will be shown as a new Line 12.6 in Part 6 with the three other drop down choices (Utilities Use, Other, and Other Expenses) available to the user. In the past, many respondents have missed reporting this data element. The proposed change is designed to improve the coverage and accuracy of respondents reporting this information and will assist EIA in its modeling and analysis.

f. Add a question in Part 6 Line 12.5, “Vehicle fuel used in company fleet” to collect information on vehicle fuel for company vehicles. Based on cognitive testing of the EIA-176 form, respondents were reporting natural gas vehicle fuel for their own company fleet as company use. This affects the accuracy of the vehicle fuel volumes and prices reported in Part 6 Items 10.5 and 11.5. Company use volumes do not have associated revenue and should not be included in 10.5 and 11.5. Adding this question will give respondents an explicit place to report company-owned vehicle fuel volumes and improve the accuracy of vehicle fuel prices based on Part 6 Items 10.5 and 11.5.

Form EIA-191, Monthly Underground Gas Storage Report

Form EIA-191 collects data on the operations of all active underground storage facilities. EIA is proposing to make the following changes to Form EIA-191:

a. Remove “Other” as a response option under “type of facility” question in Part 3 of the survey form. Respondents have not utilized this category for classifying their facilities. This open ended facility category does not provide the intended utility for EIA so EIA proposes to delete it to reduce reporting burden.

Form EIA-757, Natural Gas Processing Plant Survey

Form EIA-757 collects information on the capacity, status, and operations of natural gas processing plants, and monitors constraints of natural gas processing plants during periods of supply disruption in areas affected by an emergency, such as a hurricane. Schedule A of the EIA-757 is used to collect data every three years. Schedule A collects information on baseline operating and capacity information from all respondents. Schedule A was used to collect information in 2015 and the next planned collection for Schedule A is 2018. Schedule B is activated as needed and collects data from a sample of respondents in affected areas as needed. Schedule B was last activated in 2012 when Hurricane Isaac damaged energy supply infrastructure along the Gulf Coast. A sample of approximately 20 plants reported in 2012 during that energy disruption. EIA is proposing to continue the collection of the same data elements on Form EIA-757 Schedules A and B in their present form with one minor protocol change:

a. Collect EIA-757 Schedule A data for new natural gas processing plants that opened and began operations between the current three-year data collection cycles. This minor protocol change allows EIA to maintain a current frame at all times rather than updating the survey frame every three years when a new data collection cycle begins.

Form EIA-857, Monthly Report of Natural Gas Purchases and Deliveries to Consumers

Form EIA-857 collects data on the quantity and cost of natural gas delivered to distribution systems and the quantity and revenue of natural gas delivered to end-use consumers by market sector, on a monthly basis by state. EIA is not proposing any substantive changes to Form EIA-857.

Form EIA-910, Monthly Natural Gas Marketer, and Form EIA-912 Weekly Underground Natural Gas Storage Report

Form EIA-910 collects information on natural gas sales from marketers in selected states that have active customer choice programs. EIA is requesting information on the volume and revenue for natural gas commodity sales and any receipts for distribution charges and taxes associated with the sale of natural gas.

Form EIA-912 collects information on weekly inventories of natural gas in underground storage facilities.

EIA proposes a permanent change in the confidentiality pledge to respondents to Forms EIA-910 and EIA-912. EIA revised its confidentiality pledge to Forms EIA-910 and EIA-912 survey respondents under the Confidential Information Protection and Statistical Efficiency Act (44 U.S.C. 3501 (note)) (CIPSEA) in an emergency Federal Register notice published on January 12, 2017 in 82 FR 3764. These revisions were necessary because of requirements from the Federal Cybersecurity Enhancement Act of 2015 (Pub. L. 114-11, Division N, Title II, Subtitle B, Sec. 223). This law permits and requires the Secretary of the Department of Homeland Security (DHS) to provide Federal civilian agencies' information technology systems with cybersecurity protection for their Internet traffic. Federal statistics provide key information that the Nation uses to measure its performance and make informed choices about budgets, energy, employment, health, investments, taxes, and a host of other significant topics. Strong and trusted confidentiality and exclusively statistical use pledges under the Confidential Information Protection and Statistical Efficiency Act (CIPSEA) and similar statistical confidentiality pledges are effective and necessary in honoring the trust that businesses, individuals, and institutions, by their responses, place in statistical agencies. EIA proposed to make this change permanent in a separate Federal Register notice released on March 1, 2017 in 82 FR 12217 for all EIA surveys protected under CIPSEA. In this notice EIA proposes to permanently revise the confidentiality pledge to Form EIA-910 and EIA-912 respondents as follows:

The information you provide on Form EIA-xxx will be used for statistical purposes only and is confidential by law. In accordance with the Confidential Information Protection and Statistical Efficiency Act of 2002 and other applicable Federal laws, your responses will not be disclosed in identifiable form without your consent. Per the Federal Cybersecurity Enhancement Act of 2015, Federal information systems are protected from malicious activities through cybersecurity screening of transmitted data. Every EIA employee, as well as every agent, is subject to a jail term, a fine, or both if he or she makes public ANY identifiable information you reported.

EIA is not proposing any other substantive changes to Form EIA-910.

EIA proposes one additional change to Form EIA-912. EIA proposes to include an additional geographic data element for working gas collection and publication in the Lower 48 states:

a. Divide the “South Central” reporting region into “South Central Salt” and “South Central Nonsalt.” Currently EIA categorizes storage operators as either Salt facilities or Nonsalt facilities and allocates their volumes entirely to that region. This proposed change would require respondents to allocate volumes in their reported data between Salt facilities and Nonsalt facilities; this would improve the accuracy of EIA's published estimates on underground storage. For example, under the current methodology, volumes reported by a respondent with majority salt storage would be allocated entirely to the “South Central Salt” region, even if nearly half of their volumes were stored in nonsalt facilities. Currently, operators with more than 15 billion cubic feet (Bcf) of storage capacity in the South Central region report volumes separately between Salt facilities or Nonsalt facilities. This proposed change will require all operators in the reporting sample to report the same way.

Request for Comments: EIA invites comments on the extension of this information collection package and the proposed changes discussed above to the corresponding survey forms and instructions.

(5) Estimated Total Number of Survey Respondents: 3,340.

EIA-176 consists of 2,050 respondents.

EIA-191 consists of 145 respondents.

EIA-757 consists of 600 respondents.

EIA-857 consists of 330 respondents.

EIA-910 consists of 100 respondents.

EIA- 912 consists of 95 respondents.

(6) Annual Estimated Number of Total Responses: 14,183.

(7) Annual Estimated Number of Burden Hours: 50,564.

(8) Annual Estimated Reporting and Recordkeeping Cost Burden: The information is maintained in the normal course of business. The cost of the burden hours is estimated to be $3,724,554 (50,564 burden hours times $73.66 per hour). Other than the cost of burden hours, EIA estimates that there are no additional costs for generating, maintaining and providing the information.

Statutory Authority: Section 13(b) of the Federal Energy Administration Act of 1974, Pub. L. 93-275, codified as 15 U.S.C. 772(b) and the DOE Organization Act of 1977, P.L. 95-91, codified at 42 U.S.C. 7101 et seq.

Issued in Washington, DC, on April 18, 2017.
Nanda Srinivasan,
Director, Office of Survey Development and Statistical Integration, U. S. Energy Information Administration.

[FR Doc. 2017-08742 Filed 4-28-17; 8:45 am]

BILLING CODE 6450-01-P